DEPARTMENT OF COMMERCE

Foreign-Trade Zones Board

[Order No. 1845]

Grant of Authority; Establishment of a Foreign-Trade Zone, Brunswick, ME

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Midcoast Regional Redevelopment Authority (the Grantee) has made application to the Board (FTZ Docket 49-2011, filed 07/26/11) requesting the establishment of a foreign-trade zone in Brunswick, Maine, adjacent to the Portland U.S. Customs and Border Protection port of entry;

Whereas, notice inviting public comment has been given in the Federal Register (76 FR 45772, 08/01/11) and the application has been processed pursuant to the FTZ Act and the Board's regulations; and,

Whereas, the Board adopts the findings and recommendations of the examiner's report, and finds that the requirements of the FTZ Act and Board's regulations are satisfied, and that approval of the application is in the public interest;

Now, therefore, the Board hereby grants to the Grantee the privilege of establishing a foreign-trade zone, designated on the records of the Board as Foreign-Trade Zone No. 282, as described in the application, and subject to the FTZ Act and the Board's regulations, including Section 400.13, and to the Board's standard 2,000-acre activation limit for the overall general-purpose zone.

Signed at Washington, DC, this 7th day of September 2012.
Rebecca Blank,
Acting Secretary of Commerce, Chairman and Executive Officer, Foreign-Trade Zones Board.
Attest:
Andrew McGilvray,
Executive Secretary.

[FR Doc. 2012-23362 Filed 9-20-12; 8:45 am]

BILLING CODE 3510-DS-P